DEPARTMENT OF JUSTICE

Notice of Lodging of Settlement Agreement Under the Comprehensive Environmental Response, Compensation, and Liability Act and Chapter 11 of the United States Bankruptcy Code

Notice is hereby given that on February 21, 2007, a proposed Settlement Agreement (“Agreement”) in In re Hayes Lemmerz International, Inc, et al., Case No. 01-11490, was lodged with the United States Bankruptcy Court for the District of Delaware. The Agreement is between Hayes Lemmerz and certain of its subsidiaries (collectively, the “Debtors”) and the United States, on behalf of the United States Environmental Protection Agency (“EPA”), the United States Department of the Interior (“DOI”), and the National Oceanic and Atmospheric Administration (“NOAA”) of the United States Department of Commerce. The Agreement relates to liabilities of the Debtors under the Comprehensive Environmental Response, Compensation and Liability Act, 42 U.S.C. 9601 et seq.

Under the Agreement, sites would be divided into three categories. For the first category—“Liquidated Sites”—the United States, of behalf of EPA, would receive allowed unsecured claims totaling $1,065,123 for response costs in connection with (1) The Operating Industries, Inc. Site in Monterey Park, California; (2) the Aqua Tech Site in Greer, South Carolina; (3) the Four County Landfill Site in Rochester, Indiana; (4) the Container Recycling Site (a/k/a the Greater Lakes Container Site) in Kansas City, Kansas; (5) the Reclamation Oil Site in Detroit, Michigan; and (6) the Swope Oil Site in Pennsauken, New Jersey. Under the Agreement, claims on behalf of DOI and NOAA for natural resource damages would not be liquidated, but instead would be addressed through the Agreement's provisions on Additional Sites, described below.

For the second category of sites—“Debtor-owned Sites”—environmental claims and actions by the United States would not be discharged.

The third and final category of sites—Additional Sites—would include all other sites. For Additional Sites, the United States may not issue or seek environmental orders based on the Debtors' conduct before the bankruptcy action, but may recover response costs and natural resource damages based on such conduct, as if the United States' claims had been allowed unsecured claims under the Debtors' reorganization plan. Sites that are liquidated under the Agreement for EPA are treated as Additional Sites for DOI and NOAA.

For a period of thirty (30) days from the date of this publication, the Department of Justice will receive comments relating to the Agreement. Comments should be addressed to the Acting Assistant Attorney General, Environmental and Natural Resources Division, and either e-mailed to pubcomment-ees.enrd@usdoj.gov or mailed to P.O. Box 7611, U.S. Department of Justice, Washington, DC 20044. Comments should refer to In re Hayes Lemmerz International, Inc, et al., Case No. 01-11490 (MFW), D.J. Ref. No. 90-11-2-08019/1.

The Agreement may be examined at the Office of the United States Attorney, 1007 Orange St., Suite 700, Wilmington, DE 19801, and at the United States Environmental Protection Agency, Ariel Rios Building, 1200 Pennsylvania Avenue, NW., Washington, DC 20460. During the public comment period, the Agreement may also be examined on the following Department of Justice Web site, http://www.usdoj.gov/enrd/Consent_Decrees.htm. A copy of the Agreement may also be obtained by mail from the Consent Decree Library, P.O. Box 7611, U.S. Department of Justice, Washington, DC 20044, or by faxing or e-mailing a request to Tonia Fleetwood (tonia.fleetwood@usdoj.gov), fax number (202) 514-0097, phone confirmation number (202) 514-1547. In requesting a copy from the Consent Decree Library, please enclose a check in the amount of $6.25 (25 cents per page reproduction cost) payable to the United States Treasury.

William D. Brighton,
Assistant Chief, Environmental Enforcement Section, Enviromental and Natural Resources Division.

[FR Doc. 07-1526 Filed 3-28-07; 8:45 am]

BILLING CODE 4410-15-M